DEPARTMENT OF ENERGY

Federal Energy Regulatory Commission

[Docket No. RP98-54-032]

Colorado Interstate Gas Company; Notice of Settlement Agreement

October 17, 2000.

Take notice that on October 12, 2000, Colorado Interstate Gas Company (CIG), Public Service Company of Colorado (PSCo), Cheyenne Light, Fuel and Power Company (Cheyenne), Colorado Springs Utilities (CSU), Union Pacific Resources Company (UPR), Helmerich & Payne Inc. (Helmerich), Pioneer Natural Resources USA, Inc. (PNR), OXY USA Inc. (OXY), Eastman Dillon Oil & Gas Associates (Eastman), Amoco Production Company (Amoco), Coastal Oil and Gas Corporation (Coastal), Chevron U.S.A. Inc. (Chevron), Atlantic Richfield Company (ARCO), Mobil Oil Corporation (Mobil), Anadarko Petroleum Corporation (Anadarko), Broadhurst Operating LP (Broadhurst), Ivy League, Inc. (IVY), Ralph H. Howard, Inc. (RHH), and Texaco Exploration and Production Inc. (Texaco) (collectively referred to as the “Signatory Parties”) filed for the approval of the Commission a Settlement Agreement (Settlement) under Rule 602 of the Commission's Rules of Practice and Procedure in the captioned docket. Signatory Parties state that the Settlement has the support of the Public Utilities Commission of the State of Colorado, the Wyoming Public Service Commission, the Colorado Office of Consumer Counsel, the Colorado Energy Assistance Foundation, Citizens Utilities Company, and Greeley Gas Company, a division of Atmos Energy Corporation. The purpose of the Settlement is to extinguish the refund liability of 351 working interest owners currently subject to refund claims by CIG of less than $25,000 (with interest calculated through August 31, 2000) associated with the collection of Kansas ad valorem tax reimbursements in excess of maximum lawful prices (MLP) under the Natural Gas Policy Act. The Signatory Parties urge the Commission to approve the Settlement no later than November 28, 2000, to enable refunds to be paid to CIG no later than December 13, 2000 under terms of said agreement. A copy of the Settlement Agreement is on file with the Commission and is available for public inspection in the Public Reference Room. The Settlement Agreement may be viewed on the web at http://www.ferc.fed.us/online/rims.htm (call 202-208-2222 for assistance).

Other than the Signatory Parties, the remaining 64 working interest owners, who are subject to claims by CIG of $25,000 or more, may voluntarily participate in the Settlement by agreeing to pay specified refunds. Acquiescence in the terms of the Settlement by these working interest owners and payments under the terms of the Settlement would relieve those working interest owners of all further liability associated with the collection of Kansas ad valorem tax reimbursements in excess of the MLP, except where otherwise specifically agreed to in writing by the working interest owner. In addition, any claims against royalty owners for royalty-related on the CIG system by working interest owners participating in the Settlement, as well as royalty claims associated with the extinguished liability of the 351 working interest owners whose individual liabilities have been calculated at less than $25,000, are eliminated. Non-participating working interest owners whose individual refund liability is $25,000 or more retain their legal challenges to CIG's refund claims.

In accordance with Section 385.602(f), comments on the Settlement Agreement are due October 31, 2000, and any reply comments are due November 10, 2000.

David P. Boergers,
Secretary.

[FR Doc. 00-27094 Filed 10-20-00; 8:45 am]

BILLING CODE 6717-01-M